DEPARTMENT OF THE TREASURY

Fiscal Service

Surety Companies Acceptable On Federal Bonds—Change in Business Address and Redomestication: First Liberty Insurance Corporation; Liberty Insurance Corporation; LM Insurance Corporation

AGENCY: Financial Management Service, Fiscal Service, Department of the Treasury.

ACTION: Notice.

SUMMARY: This is Supplement No. 13 to the Treasury Department Circular 570, 2009 Revision, published July 1, 2009, at 74 FR 31536.

FOR FURTHER INFORMATION CONTACT: Surety Bond Branch at (202) 874-6850.

SUPPLEMENTARY INFORMATION: Notice is hereby given by the Treasury that the above-named companies formally changed their “BUSINESS ADDRESS” to “2815 Forbs Avenue, Suite 200, Hoffman Estates, IL 60192” effective immediately. In addition, The First Liberty Insurance Corporation (NAIC# 33588) and LM Insurance Corporation (NAIC# 33600) have redomesticated from the state of Iowa to the state of Illinois effective September 2, 2009. Federal bond-approving officers should annotate their reference copies of the Treasury Circular 570 (“Circular”), 2009 Revision, to reflect these changes.

The Circular may be viewed and downloaded through the Internet at http://www.fms.treas.gov/c570.

Questions concerning this Notice may be directed to the U.S. Department of the Treasury, Financial Management Service, Financial Accounting and Services Division, Surety Bond Branch, 3700 East-West Highway, Room 6F01, Hyattsville, MD 20782.

Dated: June 10, 2010.
William J. Erie,
Acting Director, Financial Accounting and Services Division.

[FR Doc. 2010-15064 Filed 6-23-10; 8:45 am]

BILLING CODE 4810-35-M